FEDERAL RESERVE SYSTEM

[Regulation C; Docket No. R-1186]

Home Mortgage Disclosure

AGENCY: Board of Governors of the Federal Reserve System.

ACTION: Publication of revised formats for public disclosure of lending data.

SUMMARY: The Board is publishing revised formats for public disclosure of mortgage lending data reported pursuant to the Home Mortgage Disclosure Act and Regulation C, in light of revisions to Regulation C requiring lending institutions to report new loan pricing and other loan data. These revisions to the formats for public disclosures do not affect requirements applicable to financial institutions subject to Regulation C; the new requirements applicable to financial institutions have already taken effect (on January 1, 2004). The first year for which the new data will be reported is 2004; data from institutions are due no later than March 1, 2005, and the data will be reflected in the public disclosures scheduled to be released in the summer or fall of 2005.

DATES: The new disclosure formats set forth in this notice are expected to be used for the first time in summer or fall 2005.

FOR FURTHER INFORMATION CONTACT: Glenn Canner, Senior Adviser, Division of Research and Statistics, at (202) 452-2910; or John C. Wood or Kathleen C. Ryan, Counsel, Division of Consumer and Community Affairs, Board of Governors of the Federal Reserve System, Washington, DC 20551, at (202) 452-3667 or (202) 452-2412. For users of Telecommunications Device for the Deaf (TDD) only, contact (202) 263-4869.

SUPPLEMENTARY INFORMATION:

I. Background

The Home Mortgage Disclosure Act (HMDA), 12 U.S.C. 2801 et seq., requires certain depository and for-profit nondepository institutions to collect, report, and publicly disclose data about applications for, and originations and purchases of, home mortgage and home improvement loans. The Board's Regulation C, 12 CFR part 203, implements HMDA. The data reported include the application date; the type, purpose, and amount of the loan or application; the date and type of action taken on the application; the location of the property to which the loan relates; the race, ethnicity, sex, and income of the applicant or borrower; the type of purchaser if the loan is sold; and the reasons for denial if the application is denied.

Pursuant to section 304(h) of HMDA, lending institutions subject to the act report data on the HMDA Loan/Application Register (HMDA-LAR) in a loan-by-loan and application-by-application form. The data are then submitted to the federal financial regulatory agencies. Sections 304 and 310 of HMDA direct the Federal Financial Institutions Examination Council (FFIEC) to edit and process the data and to produce public disclosure statements, which are sent back to the reporting institutions to be made available to the public upon request. In addition, the FFIEC sends the institutions' public disclosure statements to central depositories (such as public libraries) in each metropolitan statistical area (MSA), along with aggregate disclosures covering all reporting institutions in that MSA. Under section 304(h) of HMDA, the Board—in cooperation with the Office of the Comptroller of the Currency (OCC), the Office of Thrift Supervision (OTS), the Federal Deposit Insurance Corporation (FDIC), the National Credit Union Administration (NCUA), and the Department of Housing and Urban Development (HUD)—is directed to develop the format for the public disclosures.

The Board recently completed a review of Regulation C (see 67 FR 7222, February 15, 2002, and 67 FR 43217, June 27, 2002). Amendments to the regulation adopted as a result of the review require institutions to report new items, including a rate spread between the annual percentage rate (APR) on the loan and the yield on Treasury securities of comparable maturity; whether the loan is subject to the Home Ownership and Equity Protection Act (HOEPA); whether manufactured housing is involved; the type of lien on the property (first, subordinate, or none); and certain information about requests for preapproval. In addition, the regulation was amended to conform to changes in standards for collection of applicant data on race and ethnicity adopted by the Office of Management and Budget (OMB). The first year for which the new data will be reported is 2004; data from institutions must be submitted to the appropriate federal financial regulatory agency no later than March 1, 2005, and the data will be reflected in the public disclosures scheduled to be released in summer or fall 2005.

To facilitate public access to the new information that will be reported, in keeping with the purposes of the act, the formats for the public HMDA disclosure statements are being revised. The Board and the other regulatory agencies requested public comment on proposed formats for the revised disclosure statements (69 FR 15469, March 25, 2004). The proposed changes included revisions to some of the existing disclosure tables, deletion of one set of existing tables, and the addition of new tables. Approximately 30 comments were received. In response to the comments, some changes to the proposed disclosure table formats have been made; the Board is now publishing the table formats in final form.

The revisions to the existing tables are primarily to reflect the changes to the race and ethnicity categories adopted by OMB and the itemization of data on manufactured housing. One series of tables (Tables 6-1 through 6-6) will be deleted. The new tables reflect new data on rate spread, HOEPA status, lien status, preapproval requests, and manufactured housing.

II. Explanation of Revised Disclosure Formats

A. Revisions to Existing Tables and Series of Tables

The existing tables for each reporting financial institution are Tables 1, 2, 3, 4-1 through 4-6, 5-1 through 5-6, 6-1 through 6-6, 7-1 through 7-6, and 8-1 through 8-6, and Supplemental Tables 1 and 2. There are also aggregate versions of Tables 1 through 8-6, reflecting the aggregated data of all reporting financial institutions in each MSA. In addition, there are Aggregate Tables 9 and 10, but no versions of these tables for individual financial institutions. In each case, the same changes that are being made to the basic individual institution tables (1 through 8-6) are also being made to the aggregate and supplemental versions. For example, Table 1, Aggregate Table 1, and Supplemental Table 1 are revised in the same way.

1. Table 1 and Supplemental Table 1—Disposition of Loan Applications, by Location of Property and Type of Loan

Existing Table 1 shows action taken on loan applications (such as loan originated, application approved but not accepted, application denied), detailed by the state, county, and census tract in which a property is located. The table also shows the type of loan (government-backed 1-to-4 family home purchase loans, conventional 1-to-4 family home purchase loans, 1-to-4 family refinancings, 1-to-4 family home improvement loans, multifamily loans, and loans on 1-to-4 family non-owner-occupied property).

Institutions are required to report property location (generally MSA, state, county, and census tract) for loans on property located in MSAs in which they have home or branch offices. Therefore, for each reporting institution, Table 1 is produced for each MSA in which the institution has offices. In addition, some institutions are required by the regulations implementing the Community Reinvestment Act (12 U.S.C. 2901 et seq.) to report property location for all loans, no matter where the property is located, and some institutions voluntarily choose to do so. In these cases, Supplemental Table 1 is produced to reflect the same information as Table 1 for loans on property not located in MSAs where the institution has offices.

The only change proposed for Table 1 (and Aggregate Table 1 and Supplemental Table 1) was the addition of a new column G to provide separately itemized data for loan applications for manufactured housing. Existing Table 1 shows combined data covering both manufactured housing loans and 1-to-4 family housing loans. In the proposal, the revised table continued to include manufactured housing loans along with 1-to-4 family loans in columns A, B, C, and D, and the heading for these columns was changed to reflect this fact. The final changes to Table 1 are identical to the proposal.

2. Table 2 and Supplemental Table 2—Loans Purchased, by Location of Property and Type of Loan

Existing Table 2 shows loans purchased by the institution, detailed by state, county, and census tract and by type of loan, using the same loan types as in Table 1. As with Table 1, Table 2 is produced for each MSA in which the institution has offices. Supplemental Table 2 reflects the same information as Table 2, for loans on property not located in MSAs where the institution has offices.

The only changes proposed for Table 2 (and Aggregate Table 2 and Supplemental Table 2) were the same as for Table 1: the addition of a column G for manufactured housing loans and the change in the heading for columns A, B, C, and D to reflect the fact that data in those columns include manufactured housing loans. The final changes to Table 2 are identical to the proposal.

3. Table 3 Series—Loans Sold, by Type of Purchaser

Existing Table 3 shows loans sold by the institution, detailed by the race or national origin, sex, and income of the borrower; by the race/national origin and income characteristics of the census tract in which the property is located; and by the type of entity that purchased the loan (such as Fannie Mae, commercial bank, or affiliate of the institution). Table 3 is produced for each MSA in which the institution has offices. Existing Table 3 is renumbered Table 3-1; new Table 3-2 is added, as discussed later.

As proposed, the types of purchasers shown in Table 3-1 are conformed to the revised categories for type of purchaser used under the amended Regulation C. The changes include combining the commercial bank and savings institution categories; adding credit unions, mortgage banks, and finance companies to the life insurance company category; adding a new category for private securitization; and nonsubstantive terminology changes.

Also as proposed, Table 3-1 reflects the changes in borrower characteristics collected under the Regulation C revisions. The Regulation C revisions conform to standards for collection of data on race and ethnicity adopted by OMB. The OMB standards allow individuals to self-identify using more than one racial category, treat ethnicity and race as separate items of information, separate “Asian or Pacific Islander” into two categories (“Asian” and “Native Hawaiian or Other Pacific Islander,”) eliminate the category “Other,” and make nonsubstantive terminology changes.

The racial categories in Table 3-1 follow the new categories adopted in revised Regulation C. To reflect loans where the applicant has marked more than one minority race, a new category entitled “2 or More Minority Races” is added. Where the applicant chooses white and one minority race category (for example, Asian) the loan will be reflected in the data for the minority race (Asian, in this example). Ethnicity will be shown separately from race, using the categories “Hispanic or Latino,” “Not Hispanic or Latino,” “Joint (Hispanic or Latino/ Not Hispanic or Latino),” and “Ethnicity Not Available” (paralleling “Race Not Available”). “Joint (Hispanic or Latino/ Not Hispanic or Latino)” applies where one joint applicant is Hispanic or Latino and the other is not, paralleling the “Joint” category under race which applies where one applicant is of a minority race and the other is white.

In the proposal, white was divided into “White—Hispanic or Latino” and “White—Not Hispanic or Latino,” to provide better data about lending to minorities and to provide some continuity with data generated under the existing HMDA disclosures (in that “White—Not Hispanic or Latino” in the proposed revised disclosures appeared to be substantially equivalent to “White” in the existing disclosures). For similar reasons, the proposed revised Table 3 contained a data line entitled “Total Minority,” consisting of data on situations where the applicant is of a minority race, of Hispanic or Latino origin, or both. In final Table 3-1, in order to keep the race and ethnicity categories more distinct, the white race category is not divided, and instead the white non-Hispanic category is shown in a new section entitled “Minority Status,” which is displayed separately from both the race and the ethnicity categories. “Minority Status” also includes a category entitled “Others, Including Hispanic,” which is the same as the “Total Minority” category in the proposal.

As proposed, the section of Table 3 detailing loans sold by sex of the borrower—users—is being deleted. The information can be derived from the institution's modified HMDA-LAR data, which are publicly available.

The section of Table 3-1 showing loans sold by income of the borrower remains unchanged. The section showing loans sold by racial/ethnic composition of census tracts and by income of census tracts also remains unchanged, except for a change affecting loans on property in the Commonwealth of Puerto Rico.

The existing public disclosure tables for MSAs in Puerto Rico contain no data in the section on racial/ethnic composition of census tracts, because in the decennial censuses up to and including 1990, this information was not collected for areas in Puerto Rico. In the 2000 census, information was collected on the racial and ethnic composition of census tracts in Puerto Rico, and Table 3 for MSAs in Puerto Rico therefore will be revised to show the data.

In addition, the census tract data from all MSAs are rolled up into national aggregates, which are not part of the public HMDA disclosures sent to central depositories, but are available from the FFIEC. In the proposal, comment was solicited on whether the national aggregate tables should include or exclude the Puerto Rico census tract data; the issue was whether inclusion of the Puerto Rico census tract data would make trend analysis at the national level more difficult. Most commenters addressing this issue stated that the advantages of inclusion of the Puerto Rico data “ more complete data “ would outweigh the disadvantages. The final national aggregate tables, accordingly, will include the Puerto Rico data.

In response to comments, new Table 3-2 is being added to show loan pricing data for loans sold. Table 3-2 shows rate spread (between the APR on the loan and the yield on Treasury securities of comparable maturity) and HOEPA status (whether the loan is subject to the Home Ownership and Equity Protection Act) for loans sold, by type of purchaser of the loan and by lien status. The rate spread is shown using the same categories (no reported pricing data; reported pricing data; ranges of rate spreads above the comparable Treasury yield; and mean and median rate spread) as in the new Table 11 and Table 12 series, discussed later.

4. Table 4 Series—Disposition of Applications, by Race, Ethnicity, Gender and Income of Applicant

The existing tables in the Table 4 series show action taken on applications for various types of loans, detailed by race/national origin of applicants and further itemized by sex of applicants, and detailed by income of applicants. There is one table for each type of loan, using the same loan types as in Table 1. Thus, Table 4-1 shows disposition of applications for government-insured and government-guaranteed home purchase loans on 1-to-4 family dwellings; Table 4-2 shows disposition of applications for conventional home purchase loans on 1-to-4 family dwellings; Table 4-3 shows disposition of applications for refinancings on 1-to-4 family dwellings; Table 4-4 shows disposition of applications for home improvement loans on 1-to-4 family dwellings; Table 4-5 shows disposition of applications for loans on multifamily dwellings; and Table 4-6 shows disposition of applications for loans on 1-to-4 family non-owner-occupied property. Each of these tables is produced for each MSA in which the institution has offices.

The changes to the tables in the Table 4 series are substantially the same as proposed, and parallel changes to Table 3 with regard to the race and ethnicity categories, as described above. In the final version of the Table 4 series, the same adjustments as in Table 3 are made to the proposed version (showing white as a single category, rather than divided into “White—Hispanic or Latino” and “White—Not Hispanic or Latino,” and instead showing the white non-Hispanic category under “Minority Status,” which also includes “Others, Including Hispanic”). Within each of these categories, itemized data are also shown for Male, Female, and Joint (applying where one joint applicant is male and the other is female).

As in Table 3, the section in the Table 4 series showing action taken on applications by income of applicants remains unchanged. The titles of the tables also remain substantially unchanged. “1-to-4 Family and Manufactured Home Dwellings” replaces “1-to-4 Family Homes” in Tables 4-1, 4-2, 4-3, 4-4, and 4-6, to make clear that these tables continue to include manufactured homes along with 1-to-4 family homes. “Ethnicity” is added to the titles on each of the tables, since ethnicity is now treated as a separate item of data from race.

A new Table 4-7 is being added, entitled “Disposition of Applications for Home Purchase, Home Improvement, or Refinancing Loans, Manufactured Home Dwellings, by Race, Ethnicity, Gender and Income of Applicant.” The data shown are the same as in the other tables in the Table 4 series, as revised, except that the data relate only to manufactured home loan applications. Thus, the data in Table 4-7 will be a subset of the data in Tables 4-1, 4-2, 4-3, and 4-4. In this respect, new Table 4-7 parallels the new columns covering manufactured home loans and applications in Tables 1 and 2.

One additional change that was not proposed but responds to comments is the addition of a “Total” line at the end of each table in the Table 4 series, including new Table 4-7. The figures in each column of this line will show the total of all applications or loans, for the particular institution and MSA covered by the table, for the category represented by the column. For example, the total line for the first column in Table 4-7 will show total applications received for manufactured housing loans by that institution in that MSA.

5. Table 5 Series—Disposition of Applications, by Income, Race and Ethnicity of Applicant

The existing tables in the Table 5 series show action taken on applications for various types of loans, detailed by income of applicants and further itemized by race/national origin of applicants. There is one table for each type of loan, using the same loan types as in the Table 4 series; the two series of tables differ only in how the data are itemized.

The final changes are substantially the same as proposed, and mirror those made to the Table 4 series. The racial categories are changed, ethnicity placed in a separate section of data, and the table titles conformed, in the same manner as in the Table 4 series. Also paralleling the Table 4 series, a new Table 5-7 is added to show data for manufactured home loan applications, and “Total” lines are added at the end of each table.

6. Table 6 Series—Disposition of Applications, by Income and Gender of Applicant

The existing tables in the Table 6 series show action taken on applications for various types of loans, detailed by income of applicants and further itemized by sex of applicants. Again, there is one table for each type of loan. The Table 6 series parallels the 4 and 5 series; the only difference is in how the data are itemized.

The proposal was to eliminate the Table 6 series as redundant, on the basis that the Table 6 series is used very infrequently. Most commenters addressing this issue supported the proposal, and accordingly the Table 6 series will be eliminated. Information on lending patterns by income and by sex of loan applicants remains available in the 4 and 5 series of tables, as well as through the modified HMDA-LAR data that are also publicly available.

7. Table 7 Series—Disposition of Applications, by Characteristics of Census Tract in Which Property Is Located

The existing tables in the Table 7 series show action taken on applications, using the same types of loans as in the 4, 5, and 6 series, but in this case detailed by the racial/ethnic composition and median family income of the census tract in which the property is located.

The Table 7 series remains unchanged, except for the addition of a Table 7-7 to reflect manufactured housing loan applications and the inclusion of data from census tracts in Puerto Rico, as proposed, and the addition of a “Total” line as in the Table 4 and Table 5 series.

8. Table 8 Series—Reasons for Denial of Applications, by Race, Ethnicity, Gender, and Income of Applicant

The existing tables in the Table 8 series cover applications that have been denied, and show the reasons for denial detailed by the race or national origin, sex, and income of the loan applicant. As in the other series, there is one table for each type of loan, using the same loan types.

The changes made to the Table 8 series mirror those in the Tables 3, 4 and 5 series in regard to the race/ethnicity categories and inclusion of ethnicity as a separate item of data. A new Table 8-7 shows reasons for denial of manufactured housing loan applications.

9. Aggregate Table 9—Disposition of Loan Applications, by Median Age of Homes in Census Tract in Which Property Is Located and Type of Loan

Existing Aggregate Table 9 shows action taken on loan applications, by median age of homes within census tracts where the subject property is located and by type of loan. The Aggregate Table 9 for each MSA covers the aggregated data for all reporting institutions in that MSA; no Table 9 is produced for individual financial institutions.

As proposed, the changes to Aggregate Table 9 include adding a column to reflect data on manufactured home loan applications and updating the ranges of median ages of homes by ten years. A section of data covering median ages from 1990 through March 2000 is added at the beginning of the table; the section covering median ages of 1949 or earlier, at the end of the existing Aggregate Table 9, is deleted; and the range 1950-1959 in the existing table is changed to 1959 or earlier. (The updated ranges of median ages have already been put into use, for the disclosures covering 2003 lending data.)

10. Aggregate Table 10—Disposition of Loan Applications, by Principal City versus Non-Principal City Property Location and Type of Loan

Existing Aggregate Table 10 shows action taken on loan applications, by property location and by type of loan. The property location itemization consists of only two categories: central city in the given MSA, and any other location in that MSA outside the central city. No Table 10 is produced for individual financial institutions.

As proposed, the changes to Aggregate Table 10 include adding a column for data on manufactured home loan applications and substituting “principal city” for “central city,” to reflect terminology adopted by OMB.

B. New Tables and Series of Tables

A number of new tables will be produced to reflect new data items that are being collected under revised Regulation C on loan pricing (rate spread and HOEPA status), lien status, and preapproval requests. The new tables will also reflect manufactured home lending in more detail than is given in the revised existing tables.

1. Table 11 Series—Pricing Information for Loans on 1-to-4 Family Owner-Occupied Dwellings

The new Table 11 series provides loan pricing information (rate spread and HOEPA status). Under revised Regulation C, institutions must report the rate spread between the APR on the loan and the yield on Treasury securities of comparable maturity for loans subject to the Truth in Lending Act (TILA), since these loans have an APR for use in calculating the rate spread. Loans on 1-to-4 family owner-occupied homes are generally subject to TILA, and accordingly the new Table 11 series, as proposed, focuses on this category of loans. (Loans on owner-occupied manufactured homes are also generally subject to TILA, and are covered in the Table 12 series, as discussed below.)

In the proposal, the Table 11 series tables focused on conventional loans, on the basis that concern about loan pricing problems has centered on conventional, rather than government-backed, lending. Many commenters, however, urged that comparable tables be produced to show loan pricing information for government-backed lending. Accordingly, the final Table 11 series includes tables relating to Federal Housing Administration (FHA) and Veterans Administration (VA) loans.

In the proposal, the Table 11 series comprised Tables 11-1 through 11-6; the final version comprises Tables 11-1 through 11-10. The new final tables that have been added are Table 11-1 for FHA first-lien home purchase loans, Table 11-2 for VA first-lien home purchase loans, Table 11-5 for FHA first-lien refinancings, and Table 11-6 for VA first-lien refinancings. Proposed Tables 11-1, 11-2, 11-3, 11-4, 11-5, and 11-6 (covering conventional home purchase, refinancing, and home improvement loans) have been renumbered as Tables 11-3, 11-4, 11-7, 11-8, 11-9, and 11-10, respectively.

Each of the tables shows, as in the proposal, for a given reporting institution in each of the institution's MSAs, the number of such loans for which the institution did not report rate spread data because the difference between the APR on the loan and the yield on the applicable Treasury security was below the three or five percentage point reporting threshold for first-lien or subordinate-lien loans, respectively, or because no APR was available to calculate the rate spread. Each table also shows the number of such loans for which the institution did report rate spread data. The table then shows the number of loans falling into various ranges of percentage points above the applicable Treasury yield, such as 3-3.99, 4-4.99, and so on up to 8 percentage points or more above the Treasury yield for first-lien loans, and 5-5.99, 6-6.99, and so on up to 10 percentage points or more above Treasury for subordinate-lien loans. Each table also shows, for loans on which the institution reported rate spread data, the mean and median percentage points above the Treasury yield.

The final tables differ from the proposal in that they show rate spread data in terms of not only number of loans, but also dollar amount of loans, for consistency with other tables. Also, the banner heading above the columns showing ranges of rate spreads and mean and median spreads has been changed to make clear that the data shown include only loans with APRs above the applicable thresholds (3 or 5 percentage points over the comparable Treasury yields). Some commenters expressed concern that, without such clarification, some users of the data might believe that the mean and median rate spreads were calculated based on all loans made by the institution, including those with APRs below the applicable thresholds. In addition, a footnote has been added to the “no reported pricing data” column, to clarify the content of the data in the column.

As mentioned above, a loan will be reflected in the “no reported pricing data” column because the difference between the APR on the loan and the yield on the applicable Treasury security was below the reporting threshold or because no APR was available to calculate the rate spread. No APR will be available when the loan (for example, a loan for business purposes) was not subject to Regulation Z (Truth in Lending) and therefore the lender was not required to calculate and disclose an APR. Purchased loans and applications not resulting in loan originations also will not have APRs; however, these types of transactions will not be reflected in the “no reported pricing data” column, because the Table 11 series covers only loan originations. Also, for the 2004 data year, loans with application dates on or before December 31, 2003, will be excluded from the Table 11 series, because under the special rules for such loans, the rate spread is not required to be reported if the rate was set on or before that date. (These loans will also be excluded, for the 2004 data year, from all other tables containing loan pricing data, i.e., Tables 3-2 and 12-2 and Summary Table B.)

As in the proposal, the data in the Table 11 series are itemized by the race, ethnicity, income, and sex of the borrower, and by the racial/ethnic composition and the income of the census tract in which the property is located. The same changes to the race and ethnicity categories have been made in the Table 11 series as in the final Tables 3, 4, 5, and 8 series, discussed above.

As in the proposal, the tables covering refinancings and home improvement loans (Tables 11-5 through 11-10 in the final version) each include an additional column showing the number (and in the final version, dollar amount) of HOEPA loans made by the institution in the particular MSA. (Under TILA, home purchase loans on 1-to-4 family owner-occupied dwellings are excluded from HOEPA coverage; thus, there is no comparable HOEPA column in final Tables 11-1 through 11-4, covering home purchase loans.) One of the triggers for HOEPA coverage is an APR 8 or more percentage points over the comparable Treasury yield for first-lien loans, and 10 or more percentage points over the comparable Treasury yield for subordinate-lien loans. Thus, for the tables with a column showing the number or dollar amount of HOEPA loans, there could be some similarity between the data in that column and the data in the column showing number or dollar amount of loans with an APR of 8 or more (or 10 or more, for subordinate-lien loans) percentage points over the comparable Treasury yield. However, there are some differences between the two columns. First, the Treasury yield for HOEPA trigger purposes is the yield as of the 15th day of the calendar month preceding the month in which the lender received the loan application; the Treasury yield for HMDA rate spread purposes is the yield as of the 15th day of a given month, if the interest rate on the loan was set on or after that day through the 14th day of the following month. Therefore, while the two yields may often be identical, they may not be in some cases. Second, a loan can be classified as a HOEPA loan even though it does not meet the APR trigger, if it meets another trigger for HOEPA coverage, based on the loan's points and fees.

2. Table 12 Series—Disposition of Applications and Pricing Information for Conventional Manufactured Home Purchase Loans, First Lien, Owner-Occupied Dwelling, by Borrower or Census Tract Characteristics

In the proposal, new Table 12 focused on manufactured home lending and showed two types of information: action taken on applications, and rate spread data for originated loans. In the final version, there are two tables, Table 12-1 which provides data on action taken, and Table 12-2 which provides rate spread data in more detail than proposed. The Table 12 series is limited, as proposed, to conventional first-lien home purchase loans on owner-occupied manufactured homes because the majority of manufactured home loan applications likely fall into this category. In addition, loans on non-owner-occupied properties are generally not subject to TILA and thus will not have an APR available for calculating rate spread.

In final Table 12-1, the action taken data are itemized by the race, ethnicity, income, and sex of the applicant, and by the racial/ethnic composition and income of the census tract where the property is located. The categories used for the applicant and census tract characteristics are identical to those used in the revised existing tables and in the new Table 11 series. Proposed Table 12 showed the data in terms of number of applications or loans; final Table 12-1 displays the data in terms of both numbers and dollar amounts, for consistency with other tables.

Table 12-1 bears some similarity to new Tables 4-7, 5-7, and 7-7, which also display action taken data relating to manufactured home lending, but there are significant differences. Tables 4-7, 5-7, and 7-7 show activity on all manufactured home lending (home purchase, home improvement, and refinancings; both conventional and government-backed; both owner-occupied and non-owner-occupied; and both first-lien and subordinate-lien), while Table 12 is limited to conventional first-lien home purchase loans on owner-occupied manufactured homes.

In the proposal, the format of the rate spread section of Table 12 was similar to the Table 11 series, except that the columns showing the numbers of loans with rate spreads falling into various ranges were omitted. Thus, the proposed rate spread section of Table 12 included columns for the number of loans with no reported pricing data, the number of loans with such data reported, and the mean and median percentage points over the applicable Treasury yield for those loans with pricing data reported. In response to comment, final Table 12-2 includes columns covering various ranges of rate spreads. The ranges are the same as in the tables in the 11 series relating to first-lien loans, except that instead of the highest range being 8 or more percentage points over the comparable Treasury yield, a range of 8-9.99 is added, and the highest range accordingly is 10 or more.

Like final Table 12-1, final Table 12-2 displays the data in terms of both numbers and dollar amounts, for consistency with other tables. Also, as in the Table 11 series, the banner heading above the columns showing ranges of rate spreads and mean and median spreads has been changed to make clear that the data shown include only loans with APRs above the applicable threshold, and a footnote has been added to the “no reported pricing data” column to clarify the content of the data in the column. (The content of the data in this column parallels that of the “no reported pricing data” column in the Table 11 series, discussed above.)

Although Table 12-2 on manufactured home loans is limited to home purchase loans, while the Table 11 series on 1-to-4 family home loans also has tables covering refinancings and home improvement loans, Summary Table B, discussed later, provides some information on rate spreads for refinancings and home improvement loans on manufactured housing.

3. Summary Table A Series—Disposition of Applications and Loan Sales by Loan Type and Disposition of Preapprovals by Borrower or Census Tract Characteristics

The new Summary Table A series provides an overview of actions taken by an institution on loan applications, including actions taken on preapproval requests, with detailed itemizations by type of loan. As in the proposal, Summary Table A-1 shows action taken on applications for loans on 1-to-4 family dwellings; Summary Table A-2 shows the same data for applications on manufactured home loans; and Summary Table A-3 shows the same data for applications relating to multifamily housing, except that it does not contain data on preapproval requests; lending on multifamily housing likely does not generally involve preapproval requests as defined in Regulation C.

The tables itemize lending by (1) loan purpose (home purchase, refinancing, and home improvement); (2) lien status (first-lien, subordinate-lien, and unsecured); (3) loan type (conventional, FHA, VA, and FSA/RHS (Farm Service Agency or Rural Housing Service)); and (4) action taken. Summary Tables A-1, A-2, and A-3 do not show itemization by applicant or census tract characteristics; tables in the 4, 5, and 7 series serve that purpose. Rather, these summary tables detail at a glance the types of lending in which an institution is engaged. (New Summary Table A-4, added in the final version and focusing on preapprovals, does contain an itemization by applicant and census tract characteristics. See below for further discussion of Summary Table A-4.)

The summary tables will be produced in two versions for each reporting institution. One version reflects activity for each MSA for which the institution reports data, and the other shows the institution's total activity nationwide. Both versions itemize data by type of action taken (such as loans originated, applications approved but not accepted, and applications denied). In addition, both versions show the number of preapproval requests that resulted in loan originations and the number of originated loans sold by the institution.

Only the nationwide version shows preapproval requests denied and preapproval requests approved but not accepted. Data on preapproval requests denied and preapproval requests approved but not accepted cannot be shown in the MSA version, because to be included in the MSA-based tables, an application must have a property location, and property location is not reported on a preapproval request unless the request goes beyond the preapproval stage, for example, where it results in a loan origination.

Summary Tables A-1, A-2, and A-3 are unchanged from the proposal, except that a footnote has been added to clarify that reporting of preapproval requests approved but not accepted is optional. Some commenters were concerned that the data might be misleading to data users who did not realize the optional nature of reporting of this item.

Summary Table A-4 was not in the proposal, but has been added in the final version to address comments suggesting that information be shown on action taken on preapproval requests, itemized by applicant and census tract characteristics. The table covers conventional first-lien home purchase loans on 1-to-4 family dwellings, and shows preapprovals resulting in originations, preapprovals approved but not accepted, and preapprovals denied, itemized by the race, ethnicity, income, and sex of the applicant and by the racial/ethnic composition and income of the census tract in which the property is located. The categories used for the applicant and census tract characteristics are identical to those used in the revised existing tables and in the new Tables 11 and 12 series.

As in the case of Summary Tables A-1, A-2, and A-3, Summary Table A-4 will be produced in two versions for each reporting institution, one version reflecting activity for each MSA for which the institution reports data and the other showing the institution's total activity nationwide. However, only the nationwide version shows preapproval requests denied and preapproval requests approved but not accepted, for the same reason as discussed above with regard to the other summary tables.

4. Summary Table B—Loan Pricing Information for Conventional Loans by Incidence and Level

New Summary Table B shows rate spread and HOEPA status information for an institution as a whole, itemized in a manner similar to the Summary Table A series (by home purchase, refinancing, and home improvement; and by first-lien and subordinate-lien status). Summary Table B covers conventional loans on 1-to-4 family owner-occupied dwellings and on manufactured housing owner-occupied dwellings (shown in separate sections of the table). Summary Table B does not contain data on multifamily housing loans or on unsecured home improvement loans, because rate spread and HOEPA status data are not available for such loans.

Like the Summary Table A series, Summary Table B will be produced in two versions for each reporting institution, one version reflecting the activity of that institution for each MSA for which the institution reports data, and another version showing the institution's total activity nationwide.

Summary Table B is unchanged from the proposed version, except that a footnote has been added to the “no pricing reported” data and explanatory text has been added to the mean and median rate spread data, in both cases to clarify the content of the data, as has been done in other tables containing loan pricing data. (The content of the “no pricing reported” data parallels that of the “no reported pricing data” column in the Table 11 series, discussed above.)

Summary Table B shows data that in some respects are comparable to data shown in the Tables 11 and 12 series. Both the Table 11 series and the first section of Summary Table B display loan pricing information on 1-to-4 family dwellings. For example, Table 11-3 shows rate spread data for conventional first-lien home purchase loans on owner-occupied 1-to-4 family dwellings; the first column of the first section in Summary Table B shows the same type of data. Table 11-4 provides rate spread data on conventional subordinate-lien home purchase loans on owner-occupied 1-to-4 family dwellings, as does the second column of the first section in Summary Table B. There are differences, however. First, the tables in the Table 11 series do not show the total number of loans for the institution, but instead provide itemizations by borrower and census tract characteristics. Summary Table B provides total loan numbers (in various categories of pricing information, such as no pricing reported, pricing reported, and so on), both at the MSA level and in total activity nationwide, but no itemization by borrower and census tract characteristics. In addition, the nationwide version of Summary Table B includes loans for which no property location was reported (for example, because the property is located outside the MSAs in which the institution has offices), while the Table 11 series does not include such loans. Thus, a data user could use Summary Table B to determine at a glance the overall level of an institution's loan pricing, detailed by loan type.

The second section of Summary Table B and Table 12-2 both provide loan pricing data for manufactured housing, but again, there are differences. First, Summary Table B shows total numbers of loans for an institution (in various categories of pricing information) both at the MSA level and nationwide, but does not include an itemization by borrower or census tract characteristics; Table 12-2 includes the itemization but not the totals. In addition, Table 12-2 provides data only on first-lien home purchase loans on manufactured housing, while Summary Table B also provides data on subordinate-lien home purchase loans, first- and subordinate-lien refinancings, and first- and subordinate-lien home improvement loans, as well as HOEPA status for the refinancings and home improvement loans.

Text of Proposed Revisions

For the reasons set forth in the preamble, the Board adopts revised formats for public disclosure of mortgage lending data under the Home Mortgage Disclosure Act, as set forth in the attachment to this document.

By order of the Board of Governors of the Federal Reserve System, December 10, 2004.
Jennifer J. Johnson,
Secretary of the Board.

BILLING CODE 6210-01-P

[FR Doc. 04-27425 Filed 12-17-04; 8:45 am]

BILLING CODE 6210-01-C